DEPARTMENT OF DEFENSE

Department of the Air Force

[Docket ID: USAF-2009-0062]

Privacy Act of 1974; System of Records

AGENCY: Department of the Air Force, DOD.

ACTION: Notice to add a system of records.

SUMMARY: The Department of the Air Force proposes to add a system of records notice to its inventory of records systems subject to the Privacy Act of 1974 (5 U.S.C. 552a), as amended.

DATES: The actions will be effective on January 28, 2010 unless comments are received that would result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Ben Swilley at (703) 696-6172.

SUPPLEMENTARY INFORMATION: The Department of the Air Force's notices for systems of records subject to the Privacy Act of 1974 (5 U.S.C. 552a), as amended, have been published in the Federal Register and are available from the point of contact cited under FOR FURTHER INFORMATION CONTACT.

The proposed systems reports, as required by 5 U.S.C. 552a(r) of the Privacy Act, were submitted on December 22, 2009 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996; 61 FR 6427).

Dated: December 23, 2009.
Mitchell S. Bryman,
Alternate OSD Federal Register Liaison Officer, Department of Defense.

F044 AFRC A

SYSTEM NAME:

Automated Line of Duty (ALOD) Records.

SYSTEM LOCATION:

Headquarters, United States Air Force Reserve Command, 155 Richard Ray Blvd., Robins AFB, GA 31098-1635.

CATEGORIES OF INDIVIDUALS COVERED BY THE SYSTEM:

Air Force Active Duty, Reserve (to include Traditional Reservists (TR), Individual Mobilization Augmentees (IMA), and enlisted and commissioned Reservists), and National Guard service members who are injured while on active duty.

CATEGORIES OF RECORDS IN THE SYSTEM:

Name, Social Security Number (SSN); address; telephone number, case files including requests submitted by the applicant; intra-agency correspondence concerning cases; correspondence from/to the applicant; and military personnel data.

AUTHORITY FOR MAINTENANCE OF THE SYSTEM:

10 U.S.C. 8013, Department of Air Force; 10 U.S.C. 10204, Personnel Records and E.O. 9397 (SSN), as amended.

PURPOSE(S):

To provide an electronic Web-based means of submission, receipt, storage, processing, and tracking of Line of Duty cases for Active Duty personnel, or Reserve and National Guard service members who are injured while on active duty. Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD ‘Blanket Routine Uses' published at the beginning of the DoD compilation of systems of records notices apply to this system.

POLICIES AND PRACTICES FOR STORING, RETRIEVING, ACCESSING, RETAINING, AND DISPOSING OF RECORDS IN THE SYSTEM:

STORAGE:

Electronic storage media.

RETRIEVABILITY:

Social Security Number (SSN).

SAFEGUARDS:

Records are accessed by medical personnel, personnel specialist, legal officers, and commanders responsible for the Automated Line of Duty data. All person(s) are properly screened and cleared for need-to-know. Records are protected by the Department of Air Force access authentication procedures and by network system security software. They are stored in office buildings protected by guards, controlled screening, use of visitor registers, electronic access, and/or locks. Passwords and digital signatures are used to control access to the system data, and procedures are in place to deter and detect browsing and unauthorized access.

SYSTEM MANAGER(S) AND ADDRESS:

HQ, Air Force Reserve Command, AFRC/SG, 135 Page Rd, Robins AFB, GA 31098-1635.

NOTIFICATION PROCEDURE:

Individuals seeking to determine whether information about themselves is contained in this system should address written inquiries to the commander or supervisor of organization to which individual is/was assigned or employed. Official mailing addresses are published as an appendix to the Department of Air Force compilation of systems of records notices.

Individuals should furnish full name, Social Security Number (SSN), current address and telephone number.

RECORD ACCESS PROCEDURES:

Individuals seeking access to information about themselves contained in this system of records should address written inquiries to the commander or supervisor of organization to which individual is/was assigned or employed. Official mailing addresses are published as an appendix to the Department of Air Force compilation of systems of records notices.

Individuals should furnish full name, Social Security Number (SSN), current address and telephone number.

CONTESTING RECORD PROCEDURES:

The Air Force rules for accessing records and for contesting contents and appealing initial agency determinations are published in Air Force Instruction 33-332; 32 CFR part 806b; or may be obtained from the system.

RECORD SOURCE CATEGORIES:

Intra-agency correspondence concerning cases; correspondence from/to the applicant; and military personnel data.

EXEMPTIONS CLAIMED FOR THE SYSTEM:

None.

[FR Doc. E9-30761 Filed 12-28-09; 8:45 am]

BILLING CODE 5001-06-P